DEPARTMENT OF THE INTERIOR

Fish and Wildlife Service

Notice of Availability of a Final Environmental Impact Statement (EIS) on the Icicle Creek Restoration Project

AGENCY: Fish and Wildlife Service, Interior.

ACTION: Notice of availability.

SUMMARY: This notice advises the public that the Final Environmental Impact Statement (EIS) on the proposed Icicle Creek Restoration Project is available. Preparation of the Record of Decision will begin no sooner than 30 days from this notice.

ADDRESSES: Questions should be addressed to Ms. Corky Broaddus, Supervisory Information and Education Specialist, U. S. Fish and Wildlife Service, Leavenworth National Fish Hatchery Complex, 12790 Hatchery Road, Leavenworth, WA 98826.

FOR FURTHER INFORMATION CONTACT: Greg Pratschner, Icicle Creek Restoration Project Leader, U.S. Fish and Wildlife Service, Leavenworth National Fish Hatchery Complex, 12790 Fish Hatchery Road, Leavenworth, Washington 98826, at (509) 548-7641.

Individuals wishing copies of this Final EIS for review should immediately contact the U.S. Fish and Wildlife Service, Leavenworth National Fish Hatchery Complex. Copies have been sent to all agencies and individuals who previously received copies and to all others who have already requested copies.

SUPPLEMENTARY INFORMATION:

Document Availability

Copies of the final Environmental Impact Statement are available at the following government offices and libraries:

Government Offices—Fish and Wildlife Service, Leavenworth National Fish Hatchery, 12790 Hatchery Road, Leavenworth, WA 98826, (509) 548-7641; Fish and Wildlife Service, Mid-Columbia River Fisheries Resource Office, 12790 Hatchery Road, Leavenworth, WA 98826, (509) 548-7573; Forest Service, Leavenworth Ranger District, 600 Sherbourne, Leavenworth, WA 98826, (509) 548-6977; Forest Service, Okanogan-Wenatchee National Forest, Supervisor's Office, 215 Melody Lane, Wenatchee, WA 98801, (509) 662-4335.

Libraries—Leavenworth Public Library, 700 Highway 2, Leavenworth, WA 98826, (509) 548-7923; Wenatchee Public Library, 310 Douglas, Wenatchee, WA 98801, (509) 662-5021; East Wenatchee Public Library, 271 Ninth Street Northeast, East Wenatchee, WA 98802, (509) 886-7404; Cashmere Public Library, 101 Woodring, Cashmere, WA 98815, (509) 782-3314.

A. Background

Pursuant to the National Environmental Policy Act (NEPA), the U.S. Fish and Wildlife Service (Service) prepared a Final Environmental Impact Statement evaluating the consequences of a proposed action to remove instream structures in Icicle Creek, a tributary of the Wenatchee River, near Leavenworth, Washington.

When the Leavenworth National Fish Hatchery (Hatchery) was built in 1939, the original Icicle Creek channel was modified into a series of salmon and steelhead holding ponds with the instream placement of weirs, dams, and a headgate, which controlled flow through the ponds. Fish passage to areas above the Hatchery was deliberately blocked. Flow in Icicle Creek was diverted downstream via a manmade canal bounded on the downstream end by a velocity barrier dam and spillway. The use of the instream ponds to hold returning salmon, and steelhead was abandoned in 1979, due to recurrent water temperature and water quality problems. Instead, the hatchery constructed a conventional fish ladder and holding ponds adjacent to the spillway dam. The ladder and holding ponds are currently in use.

On March 10, 1999, the Service published a Notice of Intent (NOI) to prepare an EIS in the Federal Register. The Purpose and Need were to provide long term, year-round, sustainable passage of native fish to habitat above the Leavenworth National Fish Hatchery, and provide riverine fish habitat through the Hatchery grounds.

Scoping activities were undertaken preparatory to developing a draft EIS in cooperation with the U.S. Forest Service. We proposed to provide improved riverine habitat within the hatchery grounds. Structure No. 2 (headgate) would be retained for its historic value and to provide control for high flows. A new fish passage structure would be constructed at Structure No. 2 to accommodate up and downstream, migrating fish. Sediment would be dredged out of the historic channel to reduce downstream transport. A seasonal fish barrier would be constructed at Structure No. 5, for collecting returning adult spring Chinook salmon and maintaining the effectiveness of the hatchery operations. These actions will be modified to accommodate upstream and downstream fish passage. Project impacts are expected to be the same as described in the June 2001 draft EIS.

B. Development of the Final EIS

The final EIS has been developed cooperatively by the U.S. Fish and Wildlife Service (lead agency) and the U.S. Forest Service. In the development of the final EIS, the Service has initiated action to assure compliance with the purpose and intent of the National Environmental Policy Act of 1969, as amended.

Key issues addressed in the final EIS are identified as the effects that implementation of various alternative would have upon (1) hatchery operations, (2) threatened and endangered species and their riverine habitat, (2) stream dynamics, (3) tribal fisheries, (4) water quality and sediment, (5) historic values, (6) wetlands, and other resource related issues.

C. Alternatives Analyzed in the Final EIS

More than 20 alternatives were considered before limiting the alternatives to be advanced for further study. Six alternatives advanced for detailed analyses include: (1) Alternative 1, The No Action Alternative in which none of the existing structures in the historic channel would be removed, and the channel would be managed as status quo, (2) Alternative 2, the Restoration Strategy Alternative, which was all possible actions proposed by other agencies, public interests groups, and neighbors for providing both fish passage and riverine habitat within the hatchery grounds, (3) Alternative 3, The Service's Proposed Action, and our Preferred Alternative, which recognizes concerns about stream dynamics, historic values, water quality, and the tribal issues, (4) Alternative 5 maintained current flow regimes to favor existing hatchery fish collection, and holding facilities, while maintaining existing wetlands, (5) Alternative 6 was developed to provide fish passage through the historic channel at least cost, by modifying the headgate and structure No. 5, and only flushing natural sediments, and (6) Alternative 7, which was driven by the concern of preserving the historic values of the original hatchery construction.

The Service has selected Alternative Number 3 as their preferred alternative with a slight modification. That modification is to employ natural flushing of accumulated sediments, rather than using mechanical dredging to remove those sediments. Impacts anticipated will be: Numbers of hatchery fish produced will be maintained; tribal fisheries will be maintained; all sediment will be transported through the Icicle Creek and Wenatchee River systems, to the Columbia, and Alternative 3, with modifications, will provide upstream and downstream passage for the fish.

Dated: February 8, 2002.
Anne Badgley,
Regional Director, Region 1, Portland, Oregon.

[FR Doc. 02-3610 Filed 2-14-02; 8:45 am]

BILLING CODE 4310-55-P